DEPARTMENT OF ENERGY

Federal Energy Regulatory Commission

Combined Notice of Filings #1

January 28, 2011.

Take notice that the Commission received the following exempt wholesale generator filings:

Docket Numbers: EG11-50-000.

Applicants: Cambria CoGen Company.

Description: Notice of Self-Certification of EWG Status—Cambria CoGen Company.

Filed Date: 01/28/2011.

Accession Number: 20110128-5033.

Comment Date: 5 p.m. Eastern Time on Friday, February 18, 2011.

Take notice that the Commission received the following electric rate filings:

Docket Numbers: ER06-275-004.

Applicants: Northeast Utilities Service Company.

Description: Northeast Utilities Service Company Annual CWIP Filing for Southwest Connecticut Projects.

Filed Date: 01/28/2011.

Accession Number: 20110128-5161.

Comment Date: 5 p.m. Eastern Time on Friday, February 18, 2011.

Docket Numbers: ER10-1107-001.

Applicants: Pacific Gas and Electric Company.

Description: Notice of Pacific Gas and Electric Company's Non-Material Change in Status.

Filed Date: 01/28/2011.

Accession Number: 20110128-5213.

Comment Date: 5 p.m. Eastern Time on Friday, February 18, 2011.

Docket Numbers: ER10-1891-001; ER10-1896-001.

Applicants: Citigroup Energy Canada ULC, Citigroup Energy Inc.

Description: Notice of Non-Materical Change in Status of Citigroup Energy Inc. and Citigroup Energy Canada ULC.

Filed Date: 01/28/2011.

Accession Number: 20110128-5157.

Comment Date: 5 p.m. Eastern Time on Friday, February 18, 2011.

Docket Numbers: ER11-2209-001.

Applicants: Alta Wind II, LLC.

Description: Notice of Non-Material Change in Status of Alta Wind II, LLC.

Filed Date: 01/28/2011.

Accession Number: 20110128-5152.

Comment Date: 5 p.m. Eastern Time on Friday, February 18, 2011.

Docket Numbers: ER11-2764-000.

Applicants: Southwest Power Pool, Inc.

Description: Southwest Power Pool, Inc. submits tariff filing per 35.13(a)(2)(iii: 2065 Westar Energy, Inc. NITSA and NOA to be effective 1/1/2011.

Filed Date: 01/27/2011.

Accession Number: 20110127-5155.

Comment Date: 5 p.m. Eastern Time on Thursday, February 17, 2011.

Docket Numbers: ER11-2765-000.

Applicants: Elk Wind Energy LLC.

Description: Elk Wind Energy LLC submits tariff filing per 35.12: Application for Market-Based Rate Authorization to be effective 3/29/2011.

Filed Date: 01/28/2011.

Accession Number: 20110128-5035.

Comment Date: 5 p.m. Eastern Time on Friday, February 18, 2011.

Docket Numbers: ER11-2766-000.

Applicants: Duke Energy Carolinas, LLC.

Description: Duke Energy Carolinas, LLC submits tariff filing per 35.13(a)(2)(iii: NCEMC and BREC NITSA Amendments to be effective 1/1/2011.

Filed Date: 01/28/2011.

Accession Number: 20110128-5051.

Comment Date: 5 p.m. Eastern Time on Friday, February 18, 2011.

Docket Numbers: ER11-2767-000.

Applicants: Southwestern Public Service Company.

Description: Southwestern Public Service Company submits tariff filing per 35.13(a)(2)(iii: 2011_1_28_SPS-GSEC-DSEC Sub #1 CA to be effective 1/29/2011.

Filed Date: 01/28/2011.

Accession Number: 20110128-5126.

Comment Date: 5 p.m. Eastern Time on Friday, February 18, 2011.

Docket Numbers: ER11-2768-000.

Applicants: GenOn Wholesale Generation, LP.

Description: GenOn Wholesale Generation, LP submits tariff filing per 35.1: Notice of Succession to be effective 1/1/2011.

Filed Date: 01/28/2011.

Accession Number: 20110128-5127.

Comment Date: 5 p.m. Eastern Time on Friday, February 18, 2011.

Docket Numbers: ER11-2769-000.

Applicants: RRI Energy Services, LLC.

Description: RRI Energy Services, LLC submits tariff filing per 35.1: Notice of Succession to be effective 1/1/2011.

Filed Date: 01/28/2011.

Accession Number: 20110128-5128.

Comment Date: 5 p.m. Eastern Time on Friday, February 18, 2011.

Docket Numbers: ER11-2770-000.

Applicants: GenOn Wholesale Generation, LP.

Description: GenOn Wholesale Generation, LP submits tariff filing per 35.13(a)(2)(iii: Notice of Succession to be effective 1/1/2011.

Filed Date: 01/28/2011.

Accession Number: 20110128-5148.

Comment Date: 5 p.m. Eastern Time on Friday, February 18, 2011.

Docket Numbers: ER11-2771-000.

Applicants: Cleco Power LLC.

Description: Cleco Power LLC submits tariff filing per 35.1: RS 35-Cleco Power/Entergy O&M to be effective 1/28/2011.

Filed Date: 01/28/2011.

Accession Number: 20110128-5151.

Comment Date: 5 p.m. Eastern Time on Friday, February 18, 2011.

Docket Numbers: ER11-2772-000.

Applicants: GenOn Wholesale Generation, LP.

Description: GenOn Wholesale Generation, LP submits tariff filing per 35.13(a)(2)(iii: Notice of Succession to be effective 1/1/2011.

Filed Date: 01/28/2011.

Accession Number: 20110128-5153.

Comment Date: 5 p.m. Eastern Time on Friday, February 18, 2011.

Docket Numbers: ER11-2773-000.

Applicants: Cleco Power LLC.

Description: Cleco Power LLC submits tariff filing per 35.12: RS 36-Cleco Power/Entergy JOA to be effective 3/31/2011.

Filed Date: 01/28/2011.

Accession Number: 20110128-5156.

Comment Date: 5 p.m. Eastern Time on Friday, February 18, 2011.

Docket Numbers: ER11-2774-000.

Applicants: Virginia Electric and Power Company.

Description: Request of Virginia Electric and Power Company and Its Market-Regulated Power Sales Affiliates For Waivers of Certain Affiliate Restrictions Requirements.

Filed Date: 01/28/2011.

Accession Number: 20110128-5159.

Comment Date: 5 p.m. Eastern Time on Friday, February 18, 2011.

Docket Numbers: ER11-2775-000.

Applicants: Societe Generale Energy Corp.

Description: Societe Generale Energy Corp. submits tariff filing per 35.13(a)(2)(iii: SocGen Sucession Filing to be effective 1/13/2011.

Filed Date: 01/28/2011.

Accession Number: 20110128-5162.

Comment Date: 5 p.m. Eastern Time on Friday, February 18, 2011.

Docket Numbers: ER11-2776-000.

Applicants: Alabama Power Company.

Description: Alabama Power Company submits tariff filing per 35.13(a)(2)(iii: SWE—Leaf River NITSA Filing to be effective 1/1/2011.

Filed Date: 01/28/2011.

Accession Number: 20110128-5163.

Comment Date: 5 p.m. Eastern Time on Friday, February 18, 2011.

Docket Numbers: ER11-2777-000.

Applicants: Midwest Independent Transmission System, Ameren Illinois Company.

Description: Midwest Independent Transmission System Operator, Inc. submits tariff filing per 35.13(a)(2)(iii: Ameren-IMEA WDS SA1951 2-1-11 to be effective 2/1/2011.

Filed Date: 01/28/2011.

Accession Number: 20110128-5164.

Comment Date: 5 p.m. Eastern Time on Friday, February 18, 2011.

Docket Numbers: ER11-2778-000.

Applicants: Midwest Independent Transmission System, Ameren Illinois Company.

Description: Midwest Independent Transmission System Operator, Inc. submits tariff filing per 35.13(a)(2)(iii: Ameren-Mt. Carmel WDS SA 1958 2-1-11 to be effective 2/1/2011.

Filed Date: 01/28/2011.

Accession Number: 20110128-5167.

Comment Date: 5 p.m. Eastern Time on Friday, February 18, 2011.

Docket Numbers: ER11-2779-000.

Applicants: Midwest Independent Transmission System, Ameren Illinois Company.

Description: Midwest Independent Transmission System Operator, Inc. submits tariff filing per 35.13(a)(2)(iii: Ameren-Norris Electric WDS SA1975 2-1-11 to be effective 2/1/2011.

Filed Date: 01/28/2011.

Accession Number: 20110128-5172.

Comment Date: 5 p.m. Eastern Time on Friday, February 18, 2011.

Docket Numbers: ER11-2780-000.

Applicants: Safe Harbor Water Power Corporation.

Description: Safe Harbor Water Power Corporation submits tariff filing per 35.37: Safe Harbor Updated Market Power Analysis, Order No. 697-A Compl, Chg of Status to be effective 1/28/2011.

Filed Date: 01/28/2011.

Accession Number: 20110128-5174.

Comment Date: 5 p.m. Eastern Time on Tuesday, March 29, 2011.

Docket Numbers: ER11-2781-000.

Applicants: Southwest Power Pool, Inc.

Description: Southwest Power Pool, Inc. submits tariff filing per 35.13(a)(2)(iii: 2144 East Texas Electric Cooperative, Inc. Market Participant Service Agreement to be effective 1/1/2011.

Filed Date: 01/28/2011.

Accession Number: 20110128-5175.

Comment Date: 5 p.m. Eastern Time on Friday, February 18, 2011.

Docket Numbers: ER11-2782-000.

Applicants: Midwest Independent Transmission System, Ameren Illinois Company.

Description: Midwest Independent Transmission System Operator, Inc. submits tariff filing per 35.13(a)(2)(iii: Ameren-Prairie Power WDS SA2001 2-1-11 to be effective 2/1/2011.

Filed Date: 01/28/2011.

Accession Number: 20110128-5176.

Comment Date: 5 p.m. Eastern Time on Friday, February 18, 2011.

Docket Numbers: ER11-2783-000.

Applicants: Southwest Power Pool, Inc.

Description: Southwest Power Pool, Inc. submits tariff filing per 35.13(a)(2)(iii: 2154 Midwest Energy, Inc. NITSA and NOA to be effective 1/1/2011.

Filed Date: 01/28/2011.

Accession Number: 20110128-5179.

Comment Date: 5 p.m. Eastern Time on Friday, February 18, 2011.

Docket Numbers: ER11-2784-000.

Applicants: GenOn Wholesale Generation, LP.

Description: GenOn Wholesale Generation, LP submits tariff filing per 35.13(a)(2)(iii: Notice of Succession-MBR to be effective 1/1/2011.

Filed Date: 01/28/2011.

Accession Number: 20110128-5181.

Comment Date: 5 p.m. Eastern Time on Friday, February 18, 2011.

Docket Numbers: ER11-2785-000.

Applicants: GenOn Wholesale Generation, LP.

Description: GenOn Wholesale Generation, LP submits tariff filing per 35.13(a)(2)(iii: Notice of Succession to be effective 1/1/2011.

Filed Date: 01/28/2011.

Accession Number: 20110128-5188.

Comment Date: 5 p.m. Eastern Time on Friday, February 18, 2011.

Docket Numbers: ER11-2786-000.

Applicants: Midwest Independent Transmission System, Ameren Illinois Company.

Description: Midwest Independent Transmission System Operator, Inc. submits tariff filing per 35.13(a)(2)(iii: Ameren-Southern Illinois WDS SA2010 2-1-11 to be effective 2/1/2011.

Filed Date: 01/28/2011.

Accession Number: 20110128-5192.

Comment Date: 5 p.m. Eastern Time on Friday, February 18, 2011.

Docket Numbers: ER11-2787-000.

Applicants: Southwest Power Pool, Inc.

Description: Southwest Power Pool, Inc. submits tariff filing per 35.13(a)(2)(iii: 2155 Sunflower Electric Power Corporation NITSA and NOA to be effective 1/1/2011.

Filed Date: 01/28/2011.

Accession Number: 20110128-5195.

Comment Date: 5 p.m. Eastern Time on Friday, February 18, 2011.

Docket Numbers: ER11-2788-000.

Applicants: Midwest Independent Transmission System, Ameren Illinois Company.

Description: Midwest Independent Transmission System Operator, Inc. submits tariff filing per 35.13(a)(2)(iii: Ameren-Southwestern Electric WDS SA2006 2-1-11 to be effective 2/1/2011.

Filed Date: 01/28/2011.

Accession Number: 20110128-5196.

Comment Date: 5 p.m. Eastern Time on Friday, February 18, 2011.

Docket Numbers: ER11-2789-000.

Applicants: Midwest Independent Transmission System, Ameren Illinois Company.

Description: Midwest Independent Transmission System Operator, Inc. submits tariff filing per 35.13(a)(2)(iii: Ameren-Wabash Valley SA1970 2-1-11 to be effective 2/1/2011.

Filed Date: 01/28/2011.

Accession Number: 20110128-5197.

Comment Date: 5 p.m. Eastern Time on Friday, February 18, 2011.

Docket Numbers: ER11-2790-000.

Applicants: Midwest Independent Transmission System, Ameren Illinois Company.

Description: Midwest Independent Transmission System Operator, Inc. submits tariff filing per 35.13(a)(2)(iii: Ameren-Hoosier WDS SA2005 2-1-11 to be effective 2/1/2011.

Filed Date: 01/28/2011.

Accession Number: 20110128-5198.

Comment Date: 5 p.m. Eastern Time on Friday, February 18, 2011.

Docket Numbers: ER11-2791-000.

Applicants: Midwest Independent Transmission System, Ameren Illinois Company.

Description: Midwest Independent Transmission System Operator, Inc. submits tariff filing per 35.13(a)(2)(iii: Ameren-Newton WDS SA2003 4-1-11 to be effective 4/1/2011.

Filed Date: 01/28/2011.

Accession Number: 20110128-5202.

Comment Date: 5 p.m. Eastern Time on Friday, February 18, 2011.

Docket Numbers: ER11-2792-000.

Applicants: Alabama Power Company.

Description: Alabama Power Company submits tariff filing per 35.13(a)(2)(iii: SMEPA NITSA Filing to be effective 4/1/2011.

Filed Date: 01/28/2011.

Accession Number: 20110128-5204.

Comment Date: 5 p.m. Eastern Time on Friday, February 18, 2011.

Docket Numbers: ER11-2793-000.

Applicants: Allegheny Energy Supply Company, LLC.

Description: Allegheny Energy Supply Company, LLC submits tariff filing per 35: Allegheny Energy Compliance Filing to be effective 1/1/2011.

Filed Date: 01/28/2011.

Accession Number: 20110128-5217.

Comment Date: 5 p.m. Eastern Time on Friday, February 18, 2011.

Docket Numbers: ER11-2794-000.

Applicants: Midwest Independent Transmission System Operator, Inc.

Description: Midwest Independent Transmission System Operator, Inc. submits tariff filing per 35.13(a)(2)(iii: 1-28-11 Reserve Procurement Enhancement to be effective 4/1/2011.

Filed Date: 01/28/2011.

Accession Number: 20110128-5241.

Comment Date: 5 p.m. Eastern Time on Friday, February 18, 2011.

Take notice that the Commission received the following land acquisition reports:

Docket Numbers: LA10-4-000.

Applicants: Blackstone Wind Farm LLC; Blackstone Wind Farm II LLC; High Trail Wind Farm LLC; Meadow Lake Wind Farm LLC; Meadow Lake Wind Farm II LLC; Meadow Lake Wind Farm III LLC; Meadow Lake Wind Farm IV LLC; Old Trail Wind Farm, LLC.

Description: Notice of non-material change in status of Blackstone Wind Farm LLC.

Filed Date: 01/27/2011.

Accession Number: 20110127-5166.

Comment Date: 5 p.m. Eastern Time on Thursday, February 17, 2011.

Docket Numbers: LA10-4-000.

Applicants: East Coast Power Linden Holding, LLC; Cogen Technologies Linden Venture, L.P.; Fox Energy Company LLC; Birchwood Power Partners, L.P.; Shady Hills Power Company, LLC; EFS Parline Holdings, LLC and Inland Empire Energy Center, LLC.

Description: 4thQ Site Acquisition Report of The GE Companies.

Filed Date: 01/28/2011.

Accession Number: 20110128-5155.

Comment Date: 5 p.m. Eastern Time on Friday, February 18, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2011-2630 Filed 2-4-11; 8:45 am]

BILLING CODE 6717-01-P